DEPARTMENT OF TRANSPORTATION

Federal Aviation Administration

Notice of Intent To Rule on Request To Release Airport Property at Ardmore Municipal Airport, Ardmore, OK

AGENCY: Federal Aviation Administration (FAA), DOT.

ACTION: Notice of request to release airport property.

SUMMARY: The FAA proposed to rule and invites public comment on the release of land at Ardmore Municipal Airport under the provisions of section 125 of the Wendell H. Ford Aviation Investment Reform Act for the 21st Century (AIR 21).

DATES: Comments must be received on or before August 18, 2000.

ADDRESSES: Comments on this application may be mailed or delivered to the FAA at the following address: Edward Agnew, Manager, Federal Aviation Administration, Southwest Region, Airports Division, Arkansas/Oklahoma Airports Development Office, ASW-630, Fort Worth, Texas 76193-0630.

In addition, one copy of any comments submitted to the FAA must be mailed or delivered to D. Weston Stuckey, President, Ardmore Development Authority, at the following address: Ardmore Development Authority, 410 West Main, Ardmore, OK 73401.

FOR FURTHER INFORMATION CONTACT: Glenn Boles, Program Manager, Federal Aviation Administration, AR/OK ADO, ASW-630, 2601 Meacham Boulevard, Fort Worth, Texas 76193-0630.

The request to release property may be reviewed in person at this same location.

SUPPLEMENTARY INFORMATION: The FAA invites public comment on the request to release property at the Ardmore Municipal Airport under the provisions of the AIR 21.

On June 27, 2000, the FAA determined that the request to release property at Ardmore Municipal Airport submitted by the City met the procedural requirements of the Federal Aviation Regulations, part 155. The FAA may approve the request, in whole or in part, no later than August 27, 2000.

The following is a brief overview of the request: The Ardmore Development Authority requests the release of 121.84 acres of airport property. The release of property will allow for two industrial development projects to proceed. The sale is estimated to provide $163,750 to allow construction of a new terminal facility at the airport and improvements to the control tower.

Any person may inspect the request in person at the FAA office listed above under FOR FURTHER INFORMATION CONTACT.

In addition, any person may, upon request, inspect the application, notice and other documents germane to the application in person at the Ardmore Municipal Airport.

Issued in Fort Worth, Texas on June 27, 2000.
Joseph G. Washington,
Acting Manager, Airports Division.

[FR Doc. 00-18242 Filed 7-18-00; 8:45 am]

BILLING CODE 4910-62-M